FEDERAL COMMUNICATIONS COMMISSION

[OMB 3060-0678; FR ID 139669]

Information Collection Being Reviewed by the Federal Communications Commission

AGENCY: Federal Communications Commission.

ACTION: Notice and request for comments.

SUMMARY: As part of its continuing effort to reduce paperwork burdens, and as required by the Paperwork Reduction Act (PRA), the Federal Communications Commission (FCC or the Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written comments should be submitted on or before July 5, 2023. If you anticipate that you will be submitting comments, but find it difficult to do so within the period of time allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: The FCC may not conduct or sponsor a collection of information unless it displays a currently valid Office of Management and Budget (OMB) control number. No person shall be subject to any penalty for failing to comply with a collection of information subject to the PRA that does not display a valid OMB control number.

As part of its continuing effort to reduce paperwork burdens, and as required by the PRA of 1995 (44 U.S.C. 3501-3520), the FCC invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-0678.

Title: Part 25 of the Federal Communications Commission's Rules Governing the Licensing of, and Spectrum Usage by, Commercial Earth Stations and Space Stations.

Form Number: FCC Form 312, Main Form, FCC Form 312 EZ, 312-R, and Schedules A, B, and S.

Type of Review: Revision of an existing collection.

Respondents: Business or other for-profit entities, not-for-profit institutions.

Number of Respondents and Responses: 3,515 respondents and 3,567 responses.

Estimated Time per Response: 0.5-80 hours.

Frequency of Response: On Occasion, one time, and annual reporting requirements; third-party disclosure requirement; recordkeeping requirement.

Obligation to Respond: Required to obtain or retain benefits. The Commission has statutory authority for the information collection requirements under 47 U.S.C. 154, 301, 302, 303, 307, 309, 310, 319, 332, 605, and 721.

Total Annual Burden: 27,176.

Annual Cost Burden: $3,923,887.

Needs and Uses: The Federal Communications Commission requests that the Office of Management and Budget (OMB) approve a revision of the information collection titled “Part 25 of the Federal Communications Commission's Rules Governing the Licensing of, and Spectrum Usage By, Commercial Earth Stations and Space Stations” under OMB Control No. 3060-0678, as a result of three recent rulemakings, as well as an update to the Commission's filing system for earth station and space station applications, as discussed below.¹

¹ This request does not include the revisions to this information collection as a result of the Commission's rulemaking concerning orbital debris mitigation in IB Docket No. 18-313. These revisions will be submitted separately for OMB approval.

On September 27, 2019, the Commission released a Report and Order, FCC 19-93, in IB Docket No. 06-160, titled “Amendment of the Commission's Policies and Rules for Processing Applications in the Direct Broadcast Satellite Service” (DBS Licensing Report and Order). In this Report and Order, the Commission adopted a new licensing process for space stations in the Direct Broadcast Satellite Service (DBS). This new process allows applicants for DBS space station licenses to take advantage of a licensing process that parallels the Commission's streamlined Part 25 satellite licensing rules for geostationary orbit (GSO) space stations in the fixed-satellite service (FSS). The Commission limited the regulatory burdens borne by applicants, while promoting new opportunities for efficient use of orbital spacing and spectrum by DBS licensees. The Commission's action supports and encourages the increasing innovation in the DBS sector and helps to preserve U.S. leadership in space-based services and operations. This information collection will provide the Commission and the public with necessary information about this area of satellite operations. This information collection serves the public interest by streamlining the collection of information and allowing the Commission to authorize DBS space stations under the new process established in the Report and Order.

Specifically, FCC 19-93 contains the new or modified information collection requirement listed below:

Space station applications for GSO space stations operating in the frequencies of the International Telecommunication Union (ITU) Appendices 30 and 30A (incorporated by reference, see § 25.108) must include a statement that the proposed operation will take into account the applicable requirements of these Appendices of the ITU Radio Regulations and a demonstration that it is compatible with other U.S. ITU filings under Appendices 30 and 30A or, for any affected filings, a letter signed by the affected operator indicating that it consents to the new application.

The changes adopted in this Report and Order will result in a very small net annualized increase in burden hours to applicants and licensees under Part 25. A request for revisions to the information collection resulting from FCC 19-93 was previously published in the Federal Register (see 85 FR 41980), but it has been updated and is now included in this revision request.

On August 3, 2022, the Commission released a Report and Order, FCC 22-63, in IB Docket Nos. 20-330 and 22-273, titled “FCC Updates 17 GHz Rules to Support Spectrum or Satellite Broadband” (17 GHz Report and Order). In this Report and Order, the Commission amended its rules to permit use of the 17.3-17.7 GHz band by geostationary satellite orbit (GSO) space stations in the fixed-satellite service (FSS) in the space-to-Earth direction on a co-primary basis with incumbent services, and permit limited GSO FSS (space-to-Earth) use of the 17.7-17.8 GHz band on an unprotected basis with respect to fixed service operations.

The updated rules require FSS applicants seeking authority to operate in the 17 GHz band to submit similar information as other operators in this band, including earth station antenna characteristics, space station technical parameters, satellite system architecture, and power levels, as well as any interference mitigation techniques to help ensure that GSO FSS operations in the 17 GHz band do not interfere with incumbent services. Specifically, the rules require applicants to provide information pertaining to:

• Certification of frequency coordination with the operator of the co-frequency space station or submission of an interference analysis demonstrating the compatibility of the proposed system with the co-frequency space station,

• Information as to earth station antenna characteristics to ensure that antennas are properly aimed and configured and that their signals are not likely to interfere with other systems,

• Implementation of interference detection and mitigation plans to prevent and resolve interference issues.

The changes adopted in this Report and Order will result in a small net annualized increase in burden hours to applicants and licensees under Part 25.

On November 19, 2020, the Commission released a Report and Order, FCC 20-159, in IB Docket No. 18-314, titled “Further Streamlining Part 25 Rules Governing Satellite Services” (Satellite Services Report and Order). The Satellite Services Report and Order streamlined the Commission's rules governing satellite services by creating an optional framework for authorizing both the blanket-licensed earth stations and space stations of a satellite system through a unified license. The Report and Order also permitted earth station applicants to certify compliance with relevant satellite licenses in lieu of providing duplicative or unnecessary technical demonstrations, aligned the build-out requirements for earth stations and space stations, and eliminated unnecessary reporting rules. These changes reduce regulatory burdens, simplify the Commission's licensing of satellite systems, and provide additional operational flexibility. The Report and Order affected two information collections: OMB Control Numbers 3060-1215 and 3060-0678. The Commission received OMB approval for changes under No. 3060-1215 on August 26, 2021, as reported in 86 FR 52102. The Commission seeks approval for changes under No. 3060-0678 through this supporting statement.

The changes adopted in the Report and Order will result in a net annualized decrease in burden hours to applicants and licensees under Part 25. This submission amends the previous submission to the OMB to reflect these changes.

Additionally, The Commission has updated the International Bureau Filing System (IBFS), including updates to the Form 312, Schedule S. The updated version of Form 312, Schedule S will include several minor changes to the information collection designed to provide clarity to applicants and Commission staff, reduce errors, and make overall improvements to the applicants' experience in completing the Schedule S. The changes will result in a very small net annualized increase in burden hours to certain applicants under Part 25.

Federal Communications Commission.
Marlene Dortch,
Secretary, Office of the Secretary.

[FR Doc. 2023-09554 Filed 5-4-23; 8:45 am]

BILLING CODE 6712-01-P